Proclamation 7676 of May 9, 2003

National Defense Transportation Day and National Transportation Week, 2003

By the President of the United States of America

A Proclamation

America's transportation system takes us where we need to go, keeps our economy moving, and strengthens our Nation's security. On National Defense Transportation Day and during National Transportation Week, we celebrate how modern transportation has transformed the world and recognize the men and women who have contributed to its progress. We also renew our commitment to increasing transportation safety and to keeping our transportation system on the leading edge of technology.

Our 21st century transportation system safely and securely transports our citizens and delivers a wide range of goods throughout the country and the world. In times of war, our transportation system also moves troops and carries defense cargo efficiently. Preserving and enhancing our transportation resources makes that infrastructure safer, facilitates growth in business and industry, creates jobs, secures our Nation, and improves the quality of life of our citizens.

To sustain these advantages, we must continue to invest in our Nation's transportation systems. From enhancing existing highways, waterways, railway lines, pipelines, and airports, to developing fuel-efficient and reduced-emissions vehicles, we must work towards improving safety, protecting the environment, and furthering our national defense. As part of these efforts, my Administration has announced a hydrogen fuel initiative to reverse America's growing dependence on foreign oil by developing the technology to produce commercially viable, hydrogen fuel cells, which will help power cars and trucks with no emissions of air pollution or greenhouse gases. This new national commitment could make it possible for the first car driven by a child born today to be powered by hydrogen, and be pollution-free.

Through the newly created Department of Homeland Security, my Administration is working towards strengthening protections throughout our national transportation system. Designed to increase protections for America's citizens while maintaining the free flow of goods and people across our borders, our comprehensive national plan includes selective maritime restrictions, increased airport security, and improved railroad infrastructure security. We are also enforcing temporary flight restrictions and flying Combat Air Patrols over critical sites, increasing surveillance of hazardous material shipments within our country, and taking measures to keep hazardous materials away from places where large numbers of people gather. We are determined to defend the American homeland, and we will do all in our power to make sure our skies, rails, pipelines, waterways, and roads are safe from terror.

To recognize the men and women who work in the transportation industry and who contribute to our Nation's well-being, and defense, the Congress, by joint resolution approved May 16, 1957, as amended (36 U.S.C. 120), has designated the third Friday in May of each year as “National Defense Transportation Day,” and, by joint resolution approved May 14, 1962, as amended (36 U.S.C. 133), declared that the week during which that Friday falls be designated as “National Transportation Week.”

NOW, THEREFORE, I, GEORGE W. BUSH, President of the United States of America, do hereby proclaim Friday, May 16, 2003, as National Defense Transportation Day and May 11 through May 17, 2003, as National Transportation Week. I encourage all Americans to learn more about how our modern transportation system enhances our economy and contributes to our freedom.

IN WITNESS WHEREOF, I have hereunto set my hand this ninth day of May, in the year of our Lord two thousand three, and of the Independence of the United States of America the two hundred and twenty-seventh.

B

[FR Doc. 03-12197

Filed 5-13-03; 8:45 am]

Billing code 3195-01-P